DEPARTMENT OF LABOR

Employment and Training Administration

[TA-W-39,029]

Atofina Chemicals, Inc. Including Contract Workers of Washore Mechanical and Blessing Electric, Portland, Oregon; Amended Certification Regarding Eligibility To Apply for Worker Adjustment Assistance

In accordance with section 223 of the Trade Act of 1974 (19 USC 2273) the Department of Labor issued a Certification of Eligibility to Apply for Worker Adjustment Assistance on June 19, 2001, applicable to workers of Atofina Chemicals, Inc., Portland, Oregon. The notice was published in the Federal Register on July 5, 2001 (66 FR 35463).

At the request of the State agency, the Department reviewed the certification for workers of the subject firm. Information provided by the State and the company shows that employees of Washore Mechanical and Blessing Electric were employed by Atofina Chemicals, Inc. to repair chlorine and chlorate cells, perform pipe maintenance and installation duties and maintain and install high voltage electric systems necessary to produce chloralkali chemicals at the Portland, Oregon location of the subject firm.

Worker separations occurred at Washore Mechanical and Blessing Electric as a result of worker separations at Atofina Chemicals, Inc., Portland, Oregon.

Based on these findings, the Department is amending the certification to include workers of Washore Mechanical and Blessing Electric employed at Atofina Chemicals, Inc., Portland, Oregon.

The intent of the Department's certification is to include all workers of Atofina Chemicals, Inc., Portland, Oregon who were adversely affected by increased imports.

The amended notice applicable to TA-W-39-029 is hereby issued as follows:

All workers of Atofina Chemicals, Inc., Portland, Oregon and all workers of Washore Mechanical and Blessing Electric, Portland, Oregon engaged in activities related to the production of chloralkali chemicals at Atofina Chemicals, Inc., Portland, Oregon, who became totally or partially separated from employment on or after April 4, 2000, through June 19, 2003, are eligible to apply for adjustment assistance under Section 223 of the Trade Act of 1974.

Signed at Washington, DC this 13th day of November, 2001.
Edward A. Tomchick,
Director, Division of Trade Adjustment Assistance.

[FR Doc. 01-30061 Filed 12-4-01; 8:45 am]

BILLING CODE 4510-30-M